DEPARTMENT OF JUSTICE

Notice of Lodging of Consent Decree Under the Clean Air Act

In accordance with 28 CFR 50.7, notice is hereby given that on October 7, 2003, a proposed Consent Decree in United States, et al. v. National Cooperative Refinery Association, Civil Action No. 03-1348-JTM was lodged with the United States District Court for the District of Kansas.

This Consent Decree resolved claims by the United States on behalf of the Environmental Protection Agency and the State of Kansas on behalf of the Kansas Department of Health and the Environment for injunctive relief and civil penalties pursuant to the Clean Air Act, against the National Cooperative Refinery Association (NCRA) arising out of their operation of the McPherson, Kansas petroleum refinery. The Consent Decree requires NCRA to pay a civil penalty of $350,000, to implement technologies and programs valued at more than $339 million to reduce sulphur dioxide, nitrogen oxides and particulate matter emissions and perform a supplemental environmental project valued at $1.5 million to remove chloride pollutants from groundwater at the faculty.

For a period of thirty (30) days from the date of this publication, the Department of Justice will receive comments relating to the Consent Decree. Comments should be addressed to the Assistant Attorney General, Environment an Natural Resources Division, P.O. Box 7611, U.S. Department of Justice, Washington, DC 20044-7611, and should refer to United States, et al. v. National Cooperative Refinery Association, Civil Action No. 03-1348-JTM (D.Kan.), D.J. Ref. 90-5-1-1-06025/2.

The Consent Decree may be examined at the Office of the United States Attorney, District of Kansas, 1200 Epic Center, 301 N. Main St., Wichita, Kansas 67202 and at the Region 7 offices of the US EPA at 901 North Fifth Street, Kansas City, KS 66101. During the public comment period, the Consent Decree, may also be examined on the Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone number (202) 514-1547. In requesting a copy from the Consent Decree Library, please enclose a check in the amount of $24.50 (25 cents per page reproduction cost) payable to the U.S. Treasury.

Robert E. Maher,
Assistant Chief, Environmental Enforcement Section, Environment and Natural Resources Division.

[FR Doc. 03-26241 Filed 10-16-03; 8:45 am]

BILLING CODE 4410-15-M